COMMISSION ON CIVIL RIGHTS

Sunshine Act Meeting

AGENCY: United States Commission on Civil Rights.

ACTION: Notice of Commission public business meeting.

DATES: Friday, July 22, 2022, 12:00 p.m. EST.

ADDRESSES: Meeting to take place virtually and is open to the public via livestream on the Commission's YouTube page: https://www.youtube.com/user/USCCR/videos.

FOR FURTHER INFORMATION CONTACT: Angelia Rorison: 202-376-8371; publicaffairs@usccr.gov.

SUPPLEMENTARY INFORMATION: In accordance with the Government in Sunshine Act (5 U.S.C. 552b), the Commission on Civil Rights is holding a meeting to discuss the Commission's business for the month. This business meeting is open to the public. Computer assisted real-time transcription (CART) will be provided. The web link to access CART (in English) on Friday, July 22, 2022, is https://www.streamtext.net/player?event=USCCR. Please note that CART is text-only translation that occurs in real time during the meeting and is not an exact transcript.

Meeting Agenda

I. Approval of Agenda

II. Business Meeting

A. Presentations by State Advisory Committee Chairs on Released Reports and Memorandums

B. Discussion and Vote on Advisory Committee Appointments

C. Discussion and Vote on 2023 and 2024 Topics for USCCR Reports

D. Management and Operations

• Staff Director's Report

III. Adjourn Meeting

Dated: July 13, 2022.
Angelia Rorison,
USCCR Media and Communications Director.

[FR Doc. 2022-15240 Filed 7-13-22; 11:15 am]

BILLING CODE 6335-01-P